DEPARTMENT OF LABOR

Employment and Training Administration

[TA-W-70,242]

Findlay Industries, Inc., Findlay Ohio Plant One; Including On-Site Leased Workers From Alternative Management Resource, Inc. (AMRI of Findlay) Also Known as Alternative Management Temporary Services Findlay, OH; Amended Certification Regarding Eligibility To Apply for Worker Adjustment Assistance

In accordance with Section 223 of the Trade Act of 1974, as amended (“Act”), 19 U.S.C. 2273, the Department of Labor issued a Certification of Eligibility to apply for Worker Adjustment Assistance on October 13, 2009, applicable to workers of Findlay Industries, Inc., Findlay Plant One, Findlay, Ohio. The notice was published in the Federal Register December 11, 2009 (74 FR 65798).

At the request of the State Agency, the Department reviewed the certification for workers of the subject firm. The workers are engaged in activities related to the production of automotive and heavy truck interiors.

The company reports that workers leased from Alternative Management Resource, Inc., (AMRI of Findlay), also known as Alternative Management Temporary Services were employed on-site at the Findlay, Ohio location of Findlay Industries, Inc., Findlay Plant One. The Department has determined that these workers were sufficiently under the control of the subject firm to be considered leased workers.

Based on these findings, the Department is amending this certification to include workers leased from Alternative Management Resource, Inc., (AMRI of Findlay), also known as Alternative Management Temporary Services working on-site at the Findlay, Ohio location of Findlay Industries, Inc., Findlay Plant One.

The amended notice applicable to the TA-W-70,242 is hereby issued as follows:

All workers of Findlay Industries, Inc., Findlay Plant One, including on-site leased workers from Alternative Management Resource, Inc., (AMRI of Findlay), also known as Alternative Management Temporary Services, Findlay, Ohio (TA-W-70,242) and Findlay Industries, Inc., Springfield Division, Springfield, Ohio (TA-W-70,242A), who became totally or partially separated from employment on or after May 19, 2008, through October 13, 2011, and all workers in the group threatened with total or partial separation from employment on date of certification through two years from the date of certification, are eligible to apply for adjustment assistance under Chapter 2 of Title II of the Trade Act of 1974, as amended.

Signed in Washington, DC, this 8th day of April, 2010.
Elliott S. Kushner,
Certifying Officer, Division of Trade Adjustment Assistance.

[FR Doc. 2010-8885 Filed 4-16-10; 8:45 am]

BILLING CODE 4510-FN-P